DEPARTMENT OF DEFENSE

Office of the Secretary

[Transmittal No. 22-51]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-51 with attached Policy Justification and Sensitivity of Technology.

Dated: June 24, 2024.
Aaron T. Siegel,
Alternate OSD Federal Register Liaison Officer, Department of Defense.

BILLING CODE 6001-FR-P

BILLING CODE 6001-FR-C

Transmittal No. 22-51

Notice of Proposed Issuance of Letter of Offer Pursuant to Section 36(b)(1) of the Arms Export Control Act, as amended

(i) Prospective Purchaser: Government of Australia

(ii) Total Estimated Value:

Major Defense Equipment * | $ .85 billion
Other | $1.10 billion
TOTAL | $1.95 billion

(iii) Description and Quantity or Quantities of Articles or Services under Consideration for Purchase:

Major Defense Equipment (MDE):

Forty (40) UH-60M Black Hawk Helicopters

Eighty-eight (88) T700-GE 701D Engines (80 installed, 8 spares)

Forty-four (44) AN/AAR-57 Counter Missile Warning Systems (CMWS) (40 installed, 4 spares)

Ninety-six (96) H-764U Embedded Global Position Systems with Inertial Navigation (EGI) and Country Unique SAASM (or future replacement) (80 installed, 16 spares)

Non-MDE:

Also included are AN/ARC-231 RT-1808A (or future replacement) VHF/UHF/LOS SATCOM radios; APR-39C(V)1/4 Radar Warning Receivers; AVR-2B Laser Detecting Sets; APX-123A Identification Friend or Foe Transponder; ARC-220 High Frequency (HF) radio with KY-100M; VRC-100 Ground Stations; AN/PYQ-10 Simple Key Loader (SKL); KIV-77 Common Identification Friend or Foe (IFF) Applique Crypto Computers; KY-100M COMSEC Encryption devices; AN/ARN-147(V) Very High Frequency Omni-Directional Range (VOR)/Instrument Landing System (ILS) receiver radio; AN/ARN-149(V) Low Frequency (LF)/Automatic Direction Finder (ADF) radio receiver; AN/ARN-153 Tactical Air Navigation System (TACAN) receiver transmitter; AN/APN-209 radar altimeter; AN/ARC-210 radios; EBC-406HM Emergency Locator Transmitter (ELT); Encrypted Aircraft Wireless Intercommunications Systems (EAWIS); Improved Heads Up Display (IHUD); Signal Data Converters for IHUD; Blue Force Trackers (BFT-2); Improved Data Modems (IDM); Color Weather Radars; MX-10D EO/IR with Laser Designator; EO/IR Cabin Monitoring Systems; EO/IR Digital Video Recorder; AN/ARC-201D RT-1478D; Engine Inlet Barrier Filters (EIBF); Ballistic Armor Protection Systems (BAPS); Internal Auxiliary Fuel Tank Systems (IAFTS); Fast Rope Insertion Extraction System (FRIES); External Rescue Hoist (ERH); Rescue Hoist Equipment Sets; Dual Patient Litter System (DPLS) Sets; Martin Baker Palletized Crew Chief/Gunner Seats with crashworthy floor structural modifications; External Stores Support System (ESSS); Integrated Tow Plates Production Assets; Universal Software Loading Kits; 60kVA Generator Kits; Instrument Panel sets; External Gun Mount Systems; Black Hawk Aircrew Trainer (BAT); Black Hawk Maintenance Trainer (BHMT-M); Black Hawk Avionics Trainer; Maintenance Blended Reconfigurable Avionics Trainer (MBRAT); training devices; helmets; transportation; organizational equipment; spare and repair parts; support equipment; tools and test equipment; technical data and publications; personnel training and training equipment; U.S. government and contractor engineering, technical, and logistics support services; and other related elements of logistics support.

(iv) Military Department: Army (AT-B-UMI)

(v) Prior Related Cases, if any: AT-B-UMH

(vi) Sales Commission, Fee, etc., Paid, Offered, or Agreed to be Paid: None

(vii) Sensitivity of Technology Contained in the Defense Article or Defense Services Proposed to be Sold: See Attached Annex

(viii) Date Report Delivered to Congress: August 25, 2022

* As defined in Section 47(6) of the Arms Export Control Act.

POLICY JUSTIFICATION

Australia—UH-60M Black Hawk Helicopters

The Government of Australia has requested to buy forty (40) UH-60M Black Hawk helicopters; eighty-eight (88) T700-GE 701D engines (80 installed, 8 spares); forty-four (44) AN/AAR-57 Counter Missile Warning Systems (CMWS) (40 installed, 4 spares); and ninety-six (96) H-764U Embedded Global Position Systems with Inertial Navigation (EGI) and Country Unique SAASM (or future replacement) (80 installed, 16 spares). Also included are AN/ARC-231 RT-1808A (or future replacement) VHF/UHF/LOS SATCOM radios; APR-39C(V)1/4 Radar Warning Receivers; AVR-2B Laser Detecting Sets; APX-123A Identification Friend or Foe Transponder; ARC-220 High Frequency (HF) radio with KY-100M; VRC-100 Ground Stations; AN/PYQ-10 Simple Key Loader (SKL); KIV-77 Common Identification Friend or Foe (IFF) Applique Crypto Computers; KY-100M COMSEC Encryption devices; AN/ARN-147(V) Very High Frequency Omni-Directional Range (VOR)/Instrument Landing System (ILS) receiver radio; AN/ARN-149(V) Low Frequency (LF)/Automatic Direction Finder (ADF) radio receiver; AN/ARN-153 Tactical Air Navigation System (TACAN) receiver transmitter; AN/APN-209 radar altimeter; AN/ARC-210 radios; EBC-406HM Emergency Locator Transmitter (ELT); Encrypted Aircraft Wireless Intercommunications Systems (EAWIS); Improved Heads Up Display (IHUD); Signal Data Converters for IHUD; Blue Force Trackers (BFT-2); Improved Data Modems (IDM); Color Weather Radars; MX-10D EO/IR with Laser Designator; EO/IR Cabin Monitoring Systems; EO/IR Digital Video Recorder; AN/ARC-201D RT-1478D; Engine Inlet Barrier Filters (EIBF); Ballistic Armor Protection Systems (BAPS); Internal Auxiliary Fuel Tank Systems (IAFTS); Fast Rope Insertion Extraction System (FRIES); External Rescue Hoist (ERH); Rescue Hoist Equipment Sets; Dual Patient Litter System (DPLS) Sets; Martin Baker Palletized Crew Chief/Gunner Seats with crashworthy floor structural modifications; External Stores Support System (ESSS); Integrated Tow Plates Production Assets; Universal Software Loading Kits; 60kVA Generator Kits; Instrument Panel sets; External Gun Mount Systems; Black Hawk Aircrew Trainer (BAT); Black Hawk Maintenance Trainer (BHMT-M); Black Hawk Avionics Trainer; Maintenance Blended Reconfigurable Avionics Trainer (MBRAT); training devices; helmets; transportation; organizational equipment; spare and repair parts; support equipment; tools and test equipment; technical data and publications; personnel training and training equipment; U.S. government and contractor engineering, technical, and logistics support services; and other related elements of logistics support. The estimated total cost is $1.95 billion.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will replace Australia's current multi-role helicopter fleet with a more reliable and proven system that will allow Australia to maintain the appropriate level of readiness to conduct combined operations. The UH-60M Black Hawk helicopter will improve the Australian Army's ability to deploy combat power to share Australia's strategic environment, deter actions against its interests, and, when required, respond with credible force. Australia will have no difficulty absorbing this equipment into its armed forces.

The proposed sale of this equipment and support will not alter the basic military balance in the region.

The principal contractor will be Lockheed Martin, Bethesda, MD. The purchaser typically requests offsets. There are no known offset agreements. Any future offset agreement would be defined in negotiations between the purchaser and the contractor(s).

Implementation of this proposed sale will require the assignment of no U.S. Government and five (5) U.S. contractor representatives in Australia for a period of three years.

There will be no adverse impact on U.S. defense readiness as a result of this proposed sale.

Transmittal No. 22-51

Notice of Proposed Issuance of Letter of Offer Pursuant to Section 36(b)(1) of the Arms Export Control Act

Annex

Item No. vii

(vii) Sensitivity of Technology:

1. The UH-60M Black Hawk aircraft is a medium lift four bladed aircraft which includes two (2) T-701D engines. The aircraft has four (4) Multifunction Displays (MFD), which provides aircraft system, flight, mission, and communication management systems. The instrumentation panel includes four (4) Multifunction Displays (MFDs), two (2) Pilot and Co-Pilot Flight Director Panels, and two (2) Data Concentrator Units (DCUs). The Navigation System will have Embedded GPS/INS (EGIs), and two (2) Advanced Flight Control Computer Systems (AFCC), which provide 4 axis aircraft control:

a. The AN/ARC-201D Single Channel Ground to Air Radio System (SINCGARS) is a tactical airborne radio subsystem that provides secure, anti-jam voice and data communication. The integration of Communication Security (COMSEC) and the Data Rate Adapter (DRA) combines three Line Replaceable Units into one and reduces overall weight of the aircraft.

b. AN/ARC-231 RT-1808A (or future replacement), Very High Frequency/Ultra High Frequency (VHF/UHF) Line of Sight (LOS) Radio with frequency agile modes, Electronic counter-countermeasures (ECCM), UHF Satellite Communications (SATCOM), Demand Assigned Multiple Access (DAMA), Integrated Waveform (IW), Air Traffic Control (ATC) channel spacing is operator selectable in 5, 8.33, 12.5 and 25khz steps.

c. The AN/ARC-210 is a family of radios for military aircraft that provides two-way, multi-mode voice and data communications over a 30 to 512+MHz frequency range. It covers both Ultra High Frequency (UHF) and Very High Frequency (VHF) bands with AM, FM and SATCOM capabilities. The ARC-210 type radio also includes embedded anti-jam waveforms, including have-quick and SINCGARS and other data link and secure communications features, providing total battlefield interoperability and high-performance capabilities in the transfer of data, voice and imagery.

d. The AN/ARC-220 High Frequency (HF) Airborne Communication System provides rotary-wing aircraft, with advanced voice and data capabilities for short-and long-distance communications. The system is software programmable with a frequency range of 2.0000-29.9999 MHz, in 100-Hz steps and provides for providing embedded automatic Link establishment (ALE), serial tone data modem, text messaging, GPS position reporting and anti-jam functions.

e. The AN/APX-123A, Identification Friend or Foe (IFF) Transponder, is a space diversity transponder and is installed on various military platforms. When installed in conjunction with platform antennas and the Remote Control Unit (or other appropriate control unit), the transponder provides identification, altitude and surveillance reporting in response to interrogations from airborne, ground-based and/or surface interrogators.

f. The VRC-100 High Frequency (HF) Communication System is the ground station version of the AN/ARC-220 for use in Aviation Operation Centers. It provides for advanced voice and data capabilities for short-and long-distance communications. The system is software programmable with a frequency range of 2.0000-29.9999 MHz, in 100-Hz steps and provides for providing embedded automatic Link establishment (ALE), serial tone data modem, text messaging, GPS position reporting and anti-jam (ECCM) functions. The system is provided along with all required mounts, amplifiers, antennas, power supplies, and accessories.

g. The AN/PYQ-10 Simple Key Loader (SKL) is a ruggedized, portable, hand-held fill device, for securely receiving, storing, and transferring data between compatible cryptographic and communications equipment. The AN/PYQ-10(C) Simple Key Loader (SKL) will contain the KOV-21 COMSEC card, which is a Controlled Cryptographic Item (CCI).

h. The KIV-77 Identification Friend or Foe (IFF) Crypto Appliqué provides cryptographic and time-of-day services for a Combined Interrogator/Transponder (CIT) or individual interrogator or transponder Mark XIIA (Mode 4 and Mode 5) IFF system deployed to identify cooperative, friendly systems.

i. The KY-100M is a self-contained terminal including Communications Security (COMSEC) that provides for secure voice and data communications in tactical airborne/ground environments. It is an integral part of the U.S Joint Services and Federal Law Enforcement Agency networks, and provides half-duplex, narrowband and wideband communications. Flexible interfaces ensure compatibility with a wide range of voice, data, radio and satellite equipment.

j. The AN/APR-39C(V)1/4 Radar Warning System detects radar based rangefinders, target designators and beam rider systems targeting an aircraft or vehicle. The APR-39 is a detection component of the suite of countermeasures designed to increase survivability of current generation combat aircraft and specialized special operations aircraft against the threat posed by laser designated or guided weapons.

k. The AN/AVR-2B Laser Warning Receiver detects laser rangefinders, target designators and beam rider laser-aided systems targeting an aircraft or vehicle. The AVR-2B is a detection component of the suite of countermeasures designed to increase survivability of current generation combat aircraft and specialized special operations aircraft against the threat posed by laser designated or guided weapons.

l. The AAR-57 Common Missile Warning System (CMWS) is an integrated infrared (IR) countermeasures suite utilizing ultraviolet (UV) sensors to display accurate threat location and dispense decoys/countermeasures either automatically or under pilot/crew control to defeat incoming missile threats.

m. Embedded Global Positioning System (GPS)/Inertial Navigation System (INS) (EGI) provides GPS and INS capabilities to the aircraft. The EGI will include Selective Availability anti-spoofing Module (SAASM) security modules to be used for secure GPS PPS if required.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Australia can provide substantially the same degree of protection for the sensitive technology being released as the U.S. Government. This sale is necessary in furtherance of the U.S. foreign policy and national security objectives outlined in the Policy Justification.

5. All defense articles and services listed in this transmittal are authorized for release and export to the Government of Australia.

[FR Doc. 2024-14186 Filed 6-27-24; 8:45 am]

BILLING CODE 6001-FR-P